DEPARTMENT OF THE INTERIOR

Office of the Secretary

Sunshine Act Meetings

TIME AND DATE: 8:30 a.m. to 5:30 p.m. March 1; and 8:30 a.m. to 12:30 p.m. March 2, 2007.

PLACE: Department of the Interior Auditorium, 1849 C Street, NW. Washington, DC 20240.

STATUS: The Department of the Interior, as co-chair with the Department of Commerce, on behalf of the U.S. Coral Reef Task Force, announces a public meeting of the Task Force.

MATTERS TO BE CONSIDERED: Updates on implementation of Local Action Strategies, including a focus on selected issues and future needs; consideration of alternative non-regulatory approaches to coral reef conservation; member accomplishments; and public comments on coral reef issues generally. The agenda will be available from the contact person below and published on the Task Force Web site at http://www.coralreef.gov when finalized.

REGISTRATION AND EXHIBITS: There is no charge to attend this meeting. Limited space is also available for those desiring to have exhibits. Registration information for attendance and for exhibits, along with information on rooms, parking and related items, is available on the Task Force Web site noted above. Exhibits must be registered well in advance of the meeting.

CONTACT PERSON FOR MORE INFORMATION: Those desiring to obtain additional information should contact Randal Bowman at the office of the Assistant Secretary for Fish and Wildlife Parks, Department of the Interior, 1849 C Street NW., MS-MIB-3156, Attn: CRTF, Washington, DC 20240, telephone 202-219-1037, e-mail Randal_Bowman@ios.doi.gov; or consult the above Web site.

PUBLIC COMMENTS: Written statements of any length may be submitted to the Task Force at the above address, or delivered to the Task Force staff at the meeting. Those desiring to testify before the Task Force should register to do so at the meeting, and should summarize their actual statements in 5 minutes. All written statements will be considered in their entirety. Wherever possible, those with similar viewpoints or messages are encouraged to make joint statements. Comments will be received on the afternoon of March 1.

Dated: January 26, 2007.
David M. Verhey,
Acting Assistant Secretary for Fish and Wildlife and Parks.

[FR Doc. 07-637 Filed 2-8-07; 12:47 pm]

BILLING CODE 4310-55-P